ENVIRONMENTAL PROTECTION AGENCY

[ER-FRL-8587-7]

Environmental Impact Statements; Notice of Availability

Responsible Agency: Office of Federal Activities, General Information (202) 564-1399 or http://www.epa.gov/compliance/nepa/.

Weekly receipt of Environmental Impact Statements

Filed 11/10/2008 Through 11/14/2008

Pursuant to 40 CFR 1506.9.

EIS No. 20080464, Draft Supplement, AFS, MN, Echo Trail Area Forest Management Project, Updated Information to Further Address Water Quality and Watershed Health, Superior National Forest, Lacroix Ranger District and Kawishiwi Ranger District, St. Louis and Lake Counties, MN, Comment Period Ends: 01/05/2009, Contact: Carol Booth, 218-666-0020.

EIS No. 20080465, Final EIS, AFS, WY, Battle Park Cattle and Horse (C&H) and Mistymoon Sheep and Goat (S&G) Allotment Project, Proposes to Continue Livestock Grazing on both Allotments, Powder River District Ranger, Bighorn National Forest, Bighorn County, WY, Wait Period Ends: 12/22/2008, Contact: Mark Booth 307-684-7806.

EIS No. 20080466, Final EIS, USN, 00, Introduction of the P-8A MMA into the U.S. Navy Fleet, To Provide Facilities and Functions that Support the Homebasing of 12 P-8A Multi-Mission Maritime Aircraft (MMA) Fleet Squardrons (72 Aircraft) and one Fleet Replacement Squadron (FRS), which include the Following Installations: Naval Air Station Jacksonville, FL; Naval Air Station Whidbey Island, WA; Naval Air Station North Island, CA; Marine Corps Base, HI and Kaneohe Bay, HI, Wait Period Ends: 12/22/2008, Contact: Chris Harding, 757-322-4741.

EIS No. 20080467, Final EIS, AFS, WA, The Summit at Snoqualmie Master Development Plan (MPD), Proposal to Ensure Long-Term Economic Viability, Mt. Baker-Snoqualmie/Okanogan-Wenatchee National Forests, King and Kittitas Counties, WA, Wait Period Ends: 12/22/2008, Contact: Curtis Spalding, 425-783-6033.

EIS No. 20080468, Revised Draft EIS, BLM, NV, Emigrant Mine Project, Proposed Open Pit Gold Mine, Plan-of-Operation, South of Carlin in Elko County, NV, Comment Period Ends: 01/07/2009, Contact: Tom Schmidt 775-753-0200.

EIS No. 20080469, Draft EIS, FHW, HI, Honolulu High-Capacity Transit Corridor Project, Provide High-Capacity Transit Service on O'ahu from Kapolei to the University of Hawaii at Manoa and Waikiki, City and County of Honolulu, O'ahu, Hawaii, Comment Period Ends: 01/07/2009, Contact: Ted Matley, 415-744-3133.

EIS No. 20080470, Final EIS, FHW, VT, Middlebury Spur Project, Improvements to the Freight Transportation System in the Town of Middlebury in Addison County to the Town of Pittsford in Rutland County, VT, Wait Period Ends: 12/23/2008, Contact: Kenneth Sikora, Jr., 802-828-4573.

EIS No. 20080471, Final EIS, AFS, SD, South Project Area, Proposes Multiple Resource Management Actions, Selected Alternative 3, Hell Canyon Ranger District, Black Hills National Forest, Custer County, SD, Wait Period Ends: 12/22/2008, Contact: Betsy Koncerak 605-673-4853.

EIS No. 20080472, Final EIS, FRC, PA, Holtwood Hydroelectric Project (Docket No. P-1881-050) Application for an Amendment License to Increase the Installed Capacity, Susquehanna River, Lancaster and York Counties, PA, Wait Period Ends: 12/22/2008, Contact: Blake Condo, 202-502-8914.

EIS No. 20080473, Final EIS, USN, FL, Mayport Naval Station Project, Proposed Homeporting of Additional Surface Ships, Several Permits, Mayport, FL, Wait Period Ends: 12/22/2008, Contact: Royce Kemp, 904-542-6899.

Amended Notices

EIS No. 20080353, Draft Supplement, AFS, 00, Gypsy Moth Management in the United States: A Cooperative Approach, Proposing New Treatments that were not Available when the 1995 EIS was written, US, Comment Period Ends: 12/18/2008, Contact: William Oldland, 304-285-1585. Revision to FR Notice Published 09/19/2008: Extending Comment Period from 11/17/2008 to 12/18/2008.

EIS No. 20080396, Draft EIS, AFS, MT, Ashland Ranger District Travel Management Project, Proposing to Designate Routes for Public Motorized Use, Ashland Ranger District, Custer National Forest, Rosebud and Power River Counties, MT, Comment Period Ends: 12/02/2008, Contact: Doug Epperly, 406-657-6205 Ext. 225. Revision to FR Notice Published 10/03/2008: Extending Comment Period from 11/17/2008 to 12/02/2008.

Dated: November 18, 2008.
Robert W. Hargrove,
Director, NEPA Compliance Division, Office of Federal Activities.

[FR Doc. E8-27729 Filed 11-20-08; 8:45 am]

BILLING CODE 6560-50-P